DEPARTMENT OF COMMERCE

International Trade Administration

[A-583-837]

Polyethylene Terephthalate Film, Sheet, and Strip From Taiwan: Preliminary Results of Antidumping Duty Administrative Review and Preliminary Determination of No Shipments; 2019-2020

AGENCY: Enforcement and Compliance, International Trade Administration, U.S. Department of Commerce.

SUMMARY: The Department of Commerce (Commerce) is conducting an administrative review of the antidumping duty order on polyethylene terephthalate film, sheet, and strip (PET Film) from Taiwan. The period of review (POR) is July 1, 2019, through June 30, 2020. This review covers the following producers and exporters from Taiwan, Nan Ya Plastics Corporation (Nan Ya), Shinkong Materials Technology Corporation (SMTC)/Shinkong Synthetic Fibers Corporation (SSFC). Commerce preliminarily determines that sales of subject merchandise have not been made below normal value (NV) by Nan Ya during the POR. In addition, we preliminarily find that SMTC/SSFC had no shipments during the POR. Interested parties are invited to comment on these preliminary results.

DATES: Applicable August 2, 2021.

FOR FURTHER INFORMATION CONTACT: Jacqueline Arrowsmith, AD/CVD Operations, Office VII, Enforcement and Compliance, International Trade Administration, U.S. Department of Commerce, 1401 Constitution Avenue NW, Washington, DC 20230; telephone: (202) 482-5255.

SUPPLEMENTARY INFORMATION:

Background

On July 1, 2020, Commerce published in the Federal Register a notice of opportunity to request an administrative review of the AD order on PET film from Taiwan.¹ On July 27, 2020, Polyplex USA LLC (Polyplex USA), a domestic producer and interested party, requested a review of Nan Ya, SMTC and SSFC.² On July 30, 2020, the petitioners ³ requested a review of Nan Ya and SMTC.⁴ Nan Ya self-requested an administrative review of its sales on July 31, 2020.⁵ On September 3, 2020, in accordance with 19 CFR 351.221(c)(1)(i), Commerce published a notice of initiation of administrative review of the antidumping duty order on PET Film from Taiwan.⁶ On December 2, 2020, Polyplex USA withdrew its request for an administrative review of entries of PET film for all of the companies that it requested be reviewed in this administrative review period: Nan Ya, SSFC and SMTC.⁷

¹ See Antidumping or Countervailing Duty Order, Finding or Suspended Investigation; Opportunity to Request Administrative Review, 85 FR 39531 (July 1, 2020).

² See Polyplex USA LLC's Letter, “Polyethylene Terephthalate (`PET') Film from Taiwan: Polyplex USA LLC's Request for AD Administrative Review,” dated July 27, 2020.

³ The petitioners consist of DuPont Teijin Films; Mitsubishi Polyester Film, Inc.; and SKC, Inc. (petitioners).

⁴ See Petitioners' Letter, “Polyethylene Terephthalate (PET) Film from Taiwan: Request for Antidumping Duty Administrative Review,” dated July 30, 2020.

⁵ See Nan Ya Plastics Corporation's Letter, “Polyethylene Terephthalate (PET) Film from Taiwan,” dated July 31, 2020.

⁶ See Initiation of Antidumping and Countervailing Duty Administrative Reviews, 85 FR 54983 (September 3, 2020) (Initiation Notice).

⁷ See Polyplex USA LLC's Letter, “Polyethylene Terephthalate ('PET') Film from Taiwan: Polyplex USA LLC's Withdrawal of Request for Review for Polyplex USA LLC,” dated December 2, 2020.

On September 30, 2020, SMTC and SSFC each claimed that they did not sell or export any subject merchandise to the United States during the POR.⁸ On November 24, 2020, Commerce uploaded entry data on the record of the administrative review.⁹ On December 1, 2020, SMTC submitted comments explaining and documentation showing that neither SMTC nor SSFC had produced subject merchandise during the POR or three months prior to the POR.¹⁰ No rebuttal comments were submitted. On January 7, 2021, Commerce sent a no shipment inquiry for SMTC and SSFC to U.S Customs and Border Protection (CBP).¹¹ On June 7, 2021, CBP replied that it found no evidence of shipments from SMTC and SSFC during the POR.¹²

⁸ See SMTC's Letter, “Polyethylene Terephthalate Film, Sheet and Strip from Taiwan; No Shipment Certification,” dated September 30, 2020; see also SSFC's Letter, “Polyethylene Terephthalate Film, Sheet and Strip from Taiwan; No Shipment Certification,” dated September 30, 2020.

⁹ See Memorandum, “Antidumping Duty Administrative Review of Polyethylene Terephthalate Film, Sheet and Strip (PET Film) from Taiwan: U.S. Customs Entries for Shinkong Materials Technology Corporation and Shinkong Synthetic Fibers Corporation,” dated November 24, 2020.

¹⁰ See SMTC's Letter, “Polyethylene Terephthalate Film, Sheet, and Strip from Taiwan; Comments on Entry Data,” dated December 1, 2020.

¹¹ See Message 1008401 to CBP, dated January 8, 2021.

¹² See Memorandum, “Polyethylene terephthalate film, sheet, and strip (PET Film) from Taiwan; No Shipment Inquiry for Shinkong Materials Technical Corporation and/or Shinkong Synthetic Fibers Corporation During the Period 07/01/2019 through 06/30/2020,” dated June 7, 2021.

On December 11, 2020, Commerce issued its initial questionnaire to Nan Ya.¹³ Between January 4, 2021 and January 21, 2021,¹⁴ Nan Ya submitted its responses to section A and sections B through D of the questionnaire. On June 16, 2021, Commerce issued a supplemental questionnaire to Nan Ya.¹⁵ On June 30, 2021, Nan Ya submitted its supplemental questionnaire response.¹⁶

¹³ See Commerce's Letter, Antidumping Duty Questionnaire, dated December 11, 2020.

¹⁴ See Nan Ya's Letter, “Polyethylene Terephthalate (PET) Film from Taiwan,” dated January 4, 2021; see also Nan Ya's Letter, “January 21, 2021 Sections B through Q Response,” dated January 21, 2021.

¹⁵ See Commerce's Letter, Antidumping Duty Questionnaire, dated June 16, 2021.

¹⁶ See Nan Ya's Letter, “June 30, 2021 Supplemental Questionnaire Response,” dated June 30, 2021.

On March 25, 2021, in accordance with section 751(a)(3)(A) of the Tariff Act of 1930, as amended (the Act) and 19 CFR 351.213(h)(2), Commerce extended the due date for the preliminary results by 60 days (from April 2, 2020, to June 2, 2021).¹⁷ On June 1, 2021, we extended the deadline by an additional 30 days.¹⁸ On July 2, 2021, we extended the deadline until July 30, 2021.¹⁹

¹⁷ See Memorandum, “Polyethylene Terephthalate (PET) Film, Sheet and Strip from Taiwan: Extension of Deadline for Preliminary Results of Antidumping Duty Administrative Review (2019-2020),” dated March 25, 2021.

¹⁸ See Memorandum “Polyethylene Terephthalate (PET) Film, Sheet and Strip from Taiwan: Extension of Deadline for Preliminary Results of Antidumping Duty Administrative Review (2019-2020),” dated June 1, 2021.

¹⁹ See Memorandum “Polyethylene Terephthalate Film, Sheet and Strip from Taiwan: Extension of Deadline for Preliminary Results of Antidumping Duty Administrative Review (2019-2020),” dated July 2, 2021.

Scope of the Order

The merchandise subject to the order is PET Film. The PET Film subject to the order is currently classifiable under subheading 3920.62.00.90 of the Harmonized Tariff Schedule of the United States. Although the HTSUS number is provided for convenience and for customs purposes, the written product description, available in the Preliminary Decision Memorandum, remains dispositive.²⁰

²⁰ A full description of the scope of the order is contained in the Preliminary Decision Memorandum, which is dated concurrently with, and hereby adopted by, this notice.

Preliminary Determination of No Shipments

Based on U.S. Customs and Border Protection (CBP)'s response to Commerce's no shipment inquiry as well the certifications and supporting documentation provided by SMTC and SSFC in their no shipment certifications, we preliminarily determine that SMTC and SSFC ²¹ had no shipments of the subject merchandise during the POR. Consistent with Commerce's practice, we will not rescind the review with respect to SMTC/SSFC, but rather will complete the review and issue appropriate liquidation instructions to CBP based on the final results.²² For additional information regarding this determination, see the No Shipments' Determination for SMTC and SSFC Memorandum.²³

²¹ In the 2011-2012 administrative review, Commerce determined that SSFC and SMTC were a single entity. See Polyethylene Terephthalate Film, Sheet, and Strip from Taiwan; Preliminary Results of Antidumping Duty Administrative Review; 2011-2012, 78 FR 48651 (August 9, 2013), and accompanying Preliminary Decision Memorandum, unchanged in Polyethylene Terephthalate Film, Sheet, and Strip from Taiwan; Final Results of Antidumping Duty Administrative Review; 2011-2012, 79 FR 11407 (February 28, 2014). We have treated SMTC and SSFC as a single entity in all subsequent reviews and have included SSFC when only SMTC was requested in the administrative review. There is no information on the record of this administrative review that would lead Commerce to reconsider that determination. Accordingly, we continue to treat SMTC and SSFC as a single entity for purposes of this administrative review.

²² See Polyethylene Terephthalate Film, Sheet, and Strip from Taiwan: Preliminary Results of Antidumping Duty Administrative Review and Preliminary Determination of No Shipments; 2018-2019, 85 FR 74673 (November 23, 2020), unchanged in Polyethylene Terephthalate Film, Sheet, and Strip (PET Film) from Taiwan: Final Results of Antidumping Duty Administrative Review; 2018-2019, 86 FR 14311 (March 15, 2021).

²³ See Memorandum, “No Shipments' Memorandum for Shinkong Materials Corporation (SMTC) and Shinkong Synthetic Fibers Corporation (SSFC),” dated concurrently with this notice.

Methodology

Commerce is conducting this review in accordance with section 751(a)(2) of the Tariff Act of 1930, as amended (the Act). Export price is calculated in accordance with section 772 of the Act. NV is calculated in accordance with section 773 of the Act.

For a full description of the methodology underlying our conclusions, see the Preliminary Decision Memorandum. A list of topics included in the Preliminary Decision Memorandum is included as an Appendix to this notice. The Preliminary Decision Memorandum is a public document and is on file electronically via Enforcement and Compliance's Antidumping and Countervailing Duty Centralized Electronic Service System (ACCESS). ACCESS is available to registered users at http://access.trade.gov. In addition, a complete version of the Preliminary Decision Memorandum can be accessed directly on the internet at http://enforcement.trade.gov/frn/index.html.

Preliminary Results of Review

As a result of this review, we preliminarily determine the following weighted-average dumping margin for the period July 1, 2019, through June 30, 2020:

Producer/exporter | Weighted-average dumping margin (percent)
Nan Ya Plastics Corporation | 0.00

Disclosure and Public Comment

We intend to disclose the calculations performed to parties in this proceeding within five days after public announcement of the preliminary results in accordance with 19 CFR 351.224(b). Pursuant to 19 CFR 351.309(c), interested parties may submit case briefs not later than 30 days after the date of publication of this notice. Rebuttal briefs, limited to issues raised in the case briefs, may be filed not later than seven days after the date for filing case briefs.²⁴ Parties who submit case briefs or rebuttal briefs in this proceeding are encouraged to submit with each argument: (1) A statement of the issue; (2) a brief summary of the argument; and (3) a table of authorities.²⁵

²⁴ See 19 CFR 351.309(d).

²⁵ See 19 CFR 351.303 (for general filing requirements).

Pursuant to 19 CFR 351.310(c), interested parties who wish to request a hearing, must submit a written request to the Acting Assistant Secretary for Enforcement and Compliance, filed electronically via ACCESS. An electronically filed document must be received successfully in its entirety by Commerce's electronic records system, ACCESS, by 5 p.m. Eastern Time within 30 days after the date of publication of this notice. Requests should contain: (1) The party's name, address, and telephone number; (2) the number of participants; and (3) a list of issues to be discussed. Issues raised in the hearing will be limited to those raised in the respective case briefs. Commerce intends to issue the final results of this administrative review, including the results of its analysis of the issues raised in any written briefs, not later than 120 days after the date of publication of this notice, unless extended, pursuant to section 751(a)(3)(A) of the Act.

Assessment Rates

Upon completion of this administrative review, Commerce shall determine and U.S. Customs and Border Protection (CBP) shall assess antidumping duties on all appropriate entries. If a respondent's weighted-average dumping margin is not zero or de minimis (i.e., less than 0.5 percent) in the final results of this review, we will calculate importer-specific ad valorem assessment rates on the basis of the ratio of the total amount of dumping calculated for an importer's examined sales and the total entered value of such sales in accordance with 19 CFR 351.212(b)(1). Where either the respondent's weighted-average dumping margin is zero or de minimis within the meaning of 19 CFR 351.106(c), or an importer-specific rate is zero or de minimis, we will instruct CBP to liquidate the appropriate entries without regard to antidumping duties.

Commerce clarified its “automatic assessment” regulation on May 6, 2003.²⁶ This clarification applies to entries of subject merchandise during the POR produced by a respondent for which it did not know its merchandise was destined for the United States. In such instances, we will instruct CBP to liquidate unreviewed entries at the all-others rate if there is no rate for the intermediate company(ies) involved in the transaction.

²⁶ For a full discussion of this clarification, see Antidumping and Countervailing Duty Proceedings: Assessment of Antidumping Duties, 68 FR 23954 (May 6, 2003) (Assessment Policy Notice).

Commerce intends to issue assessment instructions to CBP 35 days after the date of publication of the final results of this administrative review in the Federal Register.

Cash Deposit Requirements

The following deposit requirements will be effective for all shipments of PET Film from Taiwan entered, or withdrawn from warehouse, for consumption on or after the date of publication of the final results of this administrative review, as provided for by section 751(a)(2)(C) of the Act: (1) The cash deposit rate for the company under review will be the rate established in the final results of this review (except, if the rate is zero or de minimis, no cash deposit will be required); (2) for previously reviewed or investigated companies not listed above, the cash deposit rate will continue to be the company-specific rate published for the most recent period; (3) if the exporter is not a firm covered in this review, a prior review, or the less-than-fair-value investigation, but the manufacturer is, the cash deposit rate will be the rate established for the most recent period for the manufacturer of the merchandise; and (4) the cash deposit rate for all other manufacturers or exporters is 2.40 percent.²⁷ These cash deposit requirements, when imposed, shall remain in effect until further notice.

²⁷ See Notice of Amended Final Antidumping Duty Determination of Sales at Less Than Fair Value and Antidumping Duty Order: Polyethylene Terephthalate Film, Sheet, and Strip (PET Film) from Taiwan, 67 FR 44174 (July 1, 2002).

Notification to Importers

This notice also serves as a preliminary reminder to importers of their responsibility under 19 CFR 351.402(f)(2) to file a certificate regarding the reimbursement of antidumping duties prior to liquidation of the relevant entries during this review period. Failure to comply with this requirement could result in Commerce's presumption that reimbursement of antidumping duties occurred and the subsequent assessment of double antidumping duties.

Notification to Interested Parties

We are issuing and publishing these results in accordance with sections 751(a)(1) and 777(i)(1) of the Act and 19 CFR 351.213(h)(1).

Dated: July 26, 2021.
Christian Marsh,
Acting Assistant Secretary for Enforcement and Compliance.

Appendix—List of Topics Discussed in the Preliminary Decision Memorandum

I. Summary

II. Background

III. Scope of the Order

IV. Preliminary Determination of No Shipments for SMTC/SSFC

V. Comparisons to Normal Value

VI. Date of Sale

VII. Export Price

VIII. Normal Value

IX. Currency Conversion

X. Recommendation

[FR Doc. 2021-16398 Filed 7-30-21; 8:45 am]

BILLING CODE 3510-DS-P